DEPARTMENT OF THE INTERIOR

Bureau of Land Management

[LVCLB09B3380; CACA 50543]

Notice of Realty Action; Application for Conveyance of Federally-Owned Mineral Interests, California

AGENCY: Bureau of Land Management, Interior.

ACTION: Notice of realty action.

SUMMARY: An application has been filed on December 16, 2008, by the surface owner, for the conveyance of the federally-owned mineral interests in the 2292.12-acre tract of land described in this notice. Publication of this notice temporarily segregates the mineral interests in the land covered by the application from appropriation under the public land laws, including the mining laws, while the application is being processed.

DATES: Interested persons may submit written comments to the Bureau of Land Management (BLM) at the address listed below. Comments must be received no later than June 7, 2010.

ADDRESSES: Bureau of Land Management, California State Office, 2800 Cottage Way, Sacramento, California 95825.

FOR FURTHER INFORMATION CONTACT: Liz Easley, BLM, at the above address or at (916) 978-4673. Detailed information concerning this action is available for review at the BLM address above.

SUPPLEMENTARY INFORMATION: The tract of land referred to in this notice consists of 2,292.12 acres of land, situated in Humboldt County, and is described as follows:

Humboldt Meridian, California

T. 1 S, R. 4 E

Sec. 12, S½NE¼, SE¼NW¼, NE¼SW¼ and NE¼SE¼;

Sec. 13, NE¼NE¼ and NE¼NW¼.

T. 1 S, R. 5 E

Sec. 5, Lot 1, S½SW¼ and SW¼SE¼;

Sec. 7, Lots 1-4 inclusive, NE¼, E½NW¼, E½SW¼ and SE¼;

Sec. 8, SE¼NE¼, NE¼NW¼, W½NW¼, W½SW¼ and NE¼SE¼;

Sec. 9, SW¼NW¼, NW¼SW¼;

Sec. 17, W½NE¼, NW¼, SW¼ and W½SE¼;

Sec. 18, Lot 1, NE¼, NE¼NW¼, SE¼NW¼, NE¼SW¼, N½SE¼ and SE¼SE¼;

Sec. 20, W½NE¼, N½NW¼ and SE¼NW¼.

The area described contains approximately 2292.12 acres in Humboldt County.

Under certain conditions, Section 209(b) of the Federal Land Policy and Management Act of October 21, 1976, 43 U.S.C. 1719 (FLPMA) authorizes the sale and conveyance of the federally-owned mineral interests in land to the surface owner or prospective surface owner when the non-mineral (or so-called surface interest in land) is not federally-owned. The objective is to allow consolidation of the surface and mineral interests when either one of the following conditions exist: (1) There are no known mineral values in the land; or (2) where continued Federal ownership of the mineral interests interferes with or precludes appropriate non-mineral development and such development is a more beneficial use of the land than mineral development.

An application was filed for the sale and conveyance of the federally-owned mineral interests in the above-described tract of land. Subject to valid existing rights, on April 22, 2010 the federally-owned mineral interests in the lands described above are hereby segregated from appropriation under the public land laws, including the mining laws, while the application is being processed to determine if either one of the two specified conditions exists and, if so, to otherwise comply with the procedural requirements of 43 CFR part 2720 and Section 2A of FLPMA. The segregative effect shall terminate upon: (1) Issuance of a patent or other document of conveyance as to such mineral interests; (2) final rejection of the application; or (3) December 15, 2010, whichever occurs first.

(Authority: 43 CFR 2720.1-1(b))

Comments: Your comments are invited. Please submit all comments in writing to Liz Easley at the address listed above. Before including your address, phone number, e-mail address, or other personal identifying information in your comment, you should be aware that your entire comment—including your personal identifying information—may be made publicly available at any time. While you can ask us in your comment to withhold your personal identifying information from public review, we cannot guarantee that we will be able to do so.

(Authority: 43 CFR 2720.1-1(b))

Thomas F. Zale,
Chief, Branch of Lands Management.

[FR Doc. 2010-9248 Filed 4-21-10; 8:45 am]

BILLING CODE 4310-40-P